DEPARTMENT OF HOMELAND SECURITY

Federal Emergency Management Agency

44 CFR Part 65

[Docket ID FEMA-2011-0002; Internal Agency Docket No. FEMA-B-1219]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) Luis.Rodriguez3@fema.dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona:
Pima | City of Tucson (10-09-2016P) | July 22, 2011; July 29, 2011; The Arizona Daily Star | The Honorable Robert E. Walkup, Mayor, City of Tucson, 255 West Alameda Street, Tucson, AZ 85701 | November 28, 2011 | 040076
Pinal | Unincorporated areas of Pinal County (11-09-0945P) | July 15, 2011; July 22, 2011; The Case Grande Dispatch | The Honorable Pete Rios, Chairman, Pinal County Board of Supervisors, P.O. Box 827, 31 North Pinal Street, Building A, Florence, AZ 85132 | November 21, 2011 | 040077
Arkansas: Benton | City of Bentonville (11-06-0823P) | July 7, 2011; July 14, 2011; The Benton County Daily Record | The Honorable Bob McCaslin, Mayor, City of Bentonville, 117 West Central Avenue, Bentonville, AR 72712 | November 11, 2011 | 050012
California:
Sacramento | City of Sacramento (11-09-2263P) | July 16, 2011; July 23, 2011; The Sacramento Bee | The Honorable Kevin Johnson, Mayor, City of Sacramento, 915 I Street, 5th Floor, Mail Code 09100, Sacramento, CA 95814 | November 21, 2011 | 060266
Sacramento | Unincorporated areas of Sacramento County (11-09-2263P) | July 16, 2011; July 23, 2011; The Sacramento Bee | The Honorable Roberta MacGlashan, Chair, Sacramento County Board of Supervisors, 700 H Street, Suite 2450, Sacramento, CA 95814 | November 21, 2011 | 060262
Ventura | City of Camarillo (11-09-0883P) | July 27, 2011; August 3, 2011; The Ventura County Star | The Honorable Mike Morgan, Mayor, City of Camarillo, 601 Carmen Drive, Camarillo, CA 93010 | July 19, 2011 | 065020
Ventura | Unincorporated areas of Ventura County (11-09-0883P) | July 27, 2011; August 3, 2011; The Ventura County Star | The Honorable Linda Parks, Chair, Ventura County Board of Supervisors, 800 South Victoria Avenue, Ventura, CA 93009 | July 19, 2011 | 060413
Colorado:
Douglas | Unincorporated areas of Douglas County (11-08-0044P) | July 7, 2011; July 14, 2011; The Douglas County News-Press | The Honorable Jill Repella, Chair, Douglas County Board of Commissioners, 100 3rd Street, Castle Rock, CO 80104 | June 30, 2011 | 080049
Teller | City of Woodland Park (10-08-0932P) | July 13, 2011; July 20, 2011; The Pikes Peak Courier View | The Honorable Steve Randolph, Mayor, City of Woodland Park, P.O. Box 9007, 220 West South Avenue, Woodland Park, CO 80863 | November 17, 2011 | 080175
Teller | Unincorporated areas of Teller County (10-08-0932P) | July 13, 2011; July 20, 2011; The Pikes Peak Courier View | The Honorable Jim Ignatius, Chairman, Teller County Board of Commissioners, P.O. Box 959, 112 North “A” Street, Cripple Creek, CO 80813 | November 17, 2011 | 080173
Florida:
Escambia | Unincorporated areas of Escambia County (11-04-2176P) | June 16, 2011; June 23, 2011; The Pensacola News Journal | The Honorable Kevin White, Chairman, Escambia County Board of Commissioners, P.O. Box 1951, 221 Palafox Place, Suite 400, Pensacola, FL 32502 | June 9, 2011 | 120080
Marion | City of Ocala (11-04-2943P) | July 21, 2011; July 28, 2011; The Star-Banner | The Honorable Randy Ewers, Mayor, City of Ocala, 151 Southeast Osceola Avenue, Ocala, FL 34471 | November 25, 2011 | 120330
Volusia | Unincorporated areas of Volusia County (11-04-5578X) | August 1, 2011; August 8, 2011; The Beacon | Mr. James Dinneen, Volusia County Manager, 123 West Indiana Avenue, DeLand, FL 32720 | December 6, 2011 | 125155
Hawaii: Honolulu | City of Honolulu and Unincorporated areas of Honolulu County (10-09-3709P) | July 15, 2011; July 22, 2011; The Honolulu Star-Advertiser | The Honorable Peter B. Carlisle, Mayor, City and County of Honolulu, 530 South King Street, Room 300, Honolulu, HI 96813 | November 21, 2011 | 150001
Idaho: Teton | Unincorporated areas of Teton County (11-10-0678P) | August 11, 2011; August 18, 2011; The Teton Valley News | The Honorable Kathryn Rinaldi, Chair, Teton County Board of Commissioners, Teton County Courthouse, 150 Courthouse Drive Driggs, ID 83422 | September 1, 2011 | 160230
Iowa: Linn | City of Marion (11-07-1284P) | August 11, 2011; August 18, 2011; The Marion Times | The Honorable Paul Rehn, Mayor, City of Marion, 2710 25th Avenue, Marion, IA 52302 | December 16, 2011 | 190191
Montana: Missoula | Unincorporated areas of Missoula County (11-08-0184P) | July 28, 2011; August 4, 2011; The Missoula Independent | The Honorable Jean Curtiss, Chairman, Missoula County Board of Commissioners, 200 West Broadway, Missoula, MT 59802 | December 2, 2011 | 300048
New York: Suffolk | Town of Brookhaven (11-02-0892X) | January 25, 2011; February 1, 2011; Newsday | The Honorable Mark Lesko, Supervisor, Town of Brookhaven, 1 Independence Hill, Farmingville, NY 11738 | July 18, 2011 | 365334
North Carolina: Mecklenburg | City of Charlotte (11-04-1802P) | July 6, 2011; July 13, 2011; The Charlotte Observer | The Honorable Anthony R. Foxx, Mayor, City of Charlotte, 600 East 4th Street, Charlotte, NC 28202 | November 10, 2011 | 370159
Ohio:
Lake | Unincorporated areas of Lake County (11-05-2150P) | August 11, 2011; August 18, 2011; The News-Herald | Mr. Raymond E. Sines, President, Lake County Board, 105 Main Street, Painesville, OH 44077 | December 16, 2011 | 390771
Warren | City of Mason (11-05-2541P) | August 11, 2011; August 18, 2011; The Pulse Journal | The Honorable Don Prince, Mayor, City of Mason, 6000 Mason Montgomery Road, Mason, OH 45040 | December 16, 2011 | 390559
Warren | Unincorporated areas of Warren County (11-05-2541P) | August 11, 2011; August 18, 2011; The Pulse Journal | Mr. David G. Young, Warren County Commissioner, 406 Justice Drive, Lebanon, OH 45036 | December 16, 2011 | 390757
Oklahoma: Tulsa | City of Broken Arrow (10-06-0428P) | July 28, 2011; August 4, 2011; The Tulsa Daily Commerce & Legal News | The Honorable Mike Lester, Mayor, City of Broken Arrow, 220 South 1st Street, Broken Arrow, OK 74012 | July 21, 2011 | 400236
Rhode Island: Washington | Town of North Kingstown (11-01-1012P) | August 11, 2011; August 18, 2011; The Standard Times | Mr. Michael Embury, Town of North Kingstown Manager, 80 Boston Neck Road, North Kingstown, RI 02852 | July 26, 2011 | 445404
South Dakota: Fall River | City of Hot Springs (11-08-0656P) | July 5, 2011; July 12, 2011; The Hot Springs Star | The Honorable Don DeVries, Mayor, City of Hot Springs, 303 North River Street, Hot Springs, SD 57747 | November 9, 2011 | 460027
Tennessee: Maury | City of Spring Hill (11-04-2516P) | July 28, 2011; August 4, 2011; The Daily Herald | The Honorable Michael Dinwiddie, Mayor, City of Spring Hill, P.O. Box 789, 199 Town Center, Parkway Spring Hill, TN 37174 | August 22, 2011 | 470278
Texas:
Ellis | City of Midlothian (10-06-2706P) | May 4, 2011; May 11, 2011; The Midlothian Mirror | The Honorable Boyce Whatley, Mayor, City of Midlothian, 104 West Avenue East, Midlothian, TX 76065 | May 31, 2011 | 480801
Ellis | Unincorporated areas of Ellis County (10-06-2706P) | May 4, 2011; May 11, 2011; The Waxahachie Daily Light | The Honorable Carol Bush, Ellis County Judge, 101 West Main Street, Waxahachie, TX 75165 | May 31, 2011 | 480798
Rockwall | City of Rockwall (11-06-2878P) | July 15, 2011; July 22, 2011; The Rockwall County News | The Honorable David Sweet, Mayor, City of Rockwall, 385 South Goliad Street, Rockwall, TX 75087 | November 21, 2011 | 480547
Tarrant | City of Arlington (11-06-1155P) | July 21, 2011; July 28, 2011; The Fort Worth Star-Telegram | The Honorable Dr. Robert Cluck, Mayor, City of Arlington, 101 West Abram Street, Arlington, TX 76004 | November 25, 2011 | 485454
Tarrant | City of Fort Worth (10-06-2761P) | May 6, 2011; May 13, 2011; The Fort Worth Star-Telegram | The Honorable Michael Moncrief, Mayor, City of Fort Worth, 1000 Throckmorton Street, Fort Worth, TX 76102 | September 12, 2011 | 480596
Tarrant | City of Saginaw (10-06-2761P) | May 6, 2011; May 13, 2011; The Fort Worth Star-Telegram | The Honorable Gary Brinkley, Mayor, City of Saginaw, 333 West McLeroy Boulevard, Saginaw, TX 76179 | September 12, 2011 | 480610
Travis | City of Austin (11-06-3301P) | June 28, 2011; July 5, 2011; The Austin American-Statesman | The Honorable Lee Leffingwell, Mayor, City of Austin, 301 West 2nd Street, 2nd Floor Austin, Texas 78701 | November 2, 2011 | 480624

(Catalog of Federal Domestic Assistance No. 97.022, “Flood Insurance.”)

Dated: September 13, 2011.
Sandra K. Knight,
Deputy Associate Administrator for Mitigation, Department of Homeland Security, Federal Emergency Management Agency.

[FR Doc. 2011-25157 Filed 9-29-11; 8:45 am]

BILLING CODE 9110-12-P